NUCLEAR REGULATORY COMMISSION

[Docket Nos. 50-277 and 50-278]

Exelon Generation Company, LLC, PSEG Nuclear, LLC, Peach Bottom Atomic Power Station, Unit Nos. 2 and 3; Notice of Issuance of Renewed Facility Operating License Nos. DPR-44, and DPR-56 for an Additional 20-Year Period

Notice is hereby given that the U.S. Nuclear Regulatory Commission (the Commission) has issued Renewed Facility Operating License Nos. DPR-44, and DPR-56 to Exelon Generation Company, LLC (Exelon) and PSEG Nuclear, LLC (the licensees) of the Peach Bottom Atomic Power Station, Units 2 and 3 (Peach Bottom, Units 2 and 3). Exelon is the operator of Peach Bottom, Units 2 and 3. Renewed Facility Operating License No. DPR-44 authorizes operation of Peach Bottom, Unit 2, by Exelon at reactor core power levels not in excess of 3514 megawatts thermal in accordance with the provisions of the Peach Bottom, Unit 2, renewed license and the Technical Specifications. Renewed Facility Operating License No. DPR-56 authorizes operation of Peach Bottom, Unit 3, by Exelon at reactor core power levels not in excess of 3514 megawatts thermal in accordance with the provisions of the Peach Bottom, Unit 3, renewed license and the Technical Specifications.

Peach Bottom, Units 2 and 3, are boiling water nuclear reactors located partly in Peach Bottom Township, York County, partly in Drumore Township, Lancaster County and partly in Fulton Township, Lancaster County in southeastern Pennsylvania.

The applications for the renewed licenses complied with the standards and requirements of the Atomic Energy Act of 1954, as amended (the Act), and the Commission's regulations. As required by the Act and the Commission's regulations in 10 CFR Chapter I, the Commission has made appropriate findings, which are set forth in each license. Prior public notice of the action involving the proposed issuance of these renewed licenses and of an opportunity for a hearing regarding the proposed issuance of these renewed licenses was published in the Federal Register on August 31, 2001 (66 FR 46036).

For further details with respect to this action, see (1) the Exelon Generation Company's license renewal applications for Peach Bottom, Units 2 and 3, dated July 2, 2001, as supplemented by letters dated November 26 and December 19, 2002, and January 14, January 29, January 31, and February 5, 2003; (2) the Commission's Safety Evaluation Report (SER), dated February 5, 2003 (NUREG-1769); (3) the licensee's Updated Final Safety Analysis Report; and (4) the Commission's Final Environmental Impact Statement, NUREG-1437, Supplement 10, dated January 22, 2003. These documents are available at the NRC's Public Document Room, One White Flint North, Public File Area 01 F21, 11555 Rockville Pike (first floor), Rockville, Maryland. Publicly available records will be available electronically from the Agency wide Documents Access and Management System (ADAMS). Public Electronic Reading Room on the internet at the NRC Web site http://www.nrc.gov/reading-rm/adams.html. Persons who do not have access to ADAMS or who encounter problems in accessing the documents located in ADAMS, should contact the NRC PDR Reference Staff by telephone at 1-800-397-4209, 301-415-4737 or by e-mail to pdr@nrc.gov.

Copies of Renewed Facility Operating License Nos. DPR-44 and DPR-56 may be obtained by writing to the U.S. Nuclear Regulatory Commission, Washington, DC 20555-0001, Attention: Director, Division of Regulatory Improvement Programs. Copies of the Safety Evaluation Report, NUREG-1769, and the Final Environmental Impact Statement, NUREG-1437, Supplement 10) may be purchased from the National Technical Information Service, Springfield, Virginia 22161-0002 (http://www.ntis.gov), 1-800-553-6847, or the Superintendent of Documents, U.S. Government Printing Office, P.O. Box 371954, Pittsburgh, PA 15250-7954 (http://www.access.gpo.gov/su_docs), 202-512-1800. All orders should clearly identify the NRC publication number and the requestor's Government Printing Office deposit account number or VISA or MasterCard number and expiration date.

Dated at Rockville, Maryland, this 7th day of May 2003.
For the Nuclear Regulatory Commission.
Pao-Tsin Kuo,
Program Director, License Renewal and Environmental Impacts, Division of Regulatory Improvement Programs, Office of Nuclear Reactor Regulation.

[FR Doc. 03-11839 Filed 5-12-03; 8:45 am]

BILLING CODE 7590-01-P